DEPARTMENT OF LABOR

Employment and Training Administration

Proposed Collection for the Confidentiality & Disclosure of State Unemployment Compensation Information Final Rule and State Income and Eligibility Verification Provisions of the Deficit Reduction Act of 1984; Comment Request

AGENCY: Employment and Training Administration, Labor.

ACTION: Notice.

SUMMARY: The Department of Labor, as part of its continuing effort to reduce paperwork and respondent burden conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed extension of the regulatory requirements of the Confidentiality and Disclosure of State Unemployment Compensation Information final rule and State Income and Eligibility Verification System (IEVS) provisions of the Deficit Reduction Act of 1984.

A copy of the proposed information collection request (ICR) can be obtained by contacting the office listed below in the addressee section of this notice or by accessing: http://www.doleta.gov/OMBCN/OMBControlNumber.cfm.

DATES: Written comments must be submitted to the office listed in the addressee's section below on or before May 25, 2007.

ADDRESSES: Submit written comments to the Employment and Training Administration, Office of Workforce Security, 200 Constitution Avenue, NW., Room C4518, Washington, DC 20210, Attention: Julie Balster. Telephone number: 202-693-3615 (this is not a toll-free number). Fax: 202-693-2874. E-mail: balster.julie@dol.gov.

SUPPLEMENTARY INFORMATION:

I. Background

The Deficit Reduction Act of 1984 established an income and eligibility verification system (IEVS) for the exchange of information among state agencies administering specific programs. The programs include Temporary Assistance for Needy Families, Medicaid, Food Stamps, Supplemental Security Income, Unemployment Compensation and any state program approved under Title I, X, XIV, or XVI of the Social Security Act. Under the Act, programs participating must exchange information to the extent that it is useful and productive in verifying eligibility and benefit amounts to assist the child support program and the Secretary of Health and Human Services in verifying eligibility and benefit amounts under Titles II and XVI of the Social Security Act.

On September 27, 2006, the Employment and Training Administration of the Department of Labor issued a final rule regarding the Confidentiality and Disclosure of State Unemployment Compensation Information. This rule supports and expands upon the requirements of the 1984 Deficit Reduction Act of 1984 and subsequent regulatory changes.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

As the only continuous source of income and eligibility verification, the data are required by other agencies to administer and monitor multiple programs. The Confidentiality and Disclosure of State Unemployment Compensation Information rule amends the IEVS rule and provides regulatory revisions at 20 CFR part 603 in accordance with SSA Section 303(a)(1) related to the methods of administration requirement and supports the statutory requirements for SSA Sections 303(a)(7), (c)(1), (d), (e), (f), (h) and (i).

Type of Review: Extension.

Agency: Employment and Training Administration.

Title: Confidentiality and Disclosure of State Unemployment Compensation Information/Income Eligibility Verification System.

OMB Number: 1205-0238.

Agency Number: None.

Record Keeping: State governments.

Affected Public: State governments.

Cite/Reference/Form/etc.: Section 303 of Title III of the Social Security Act.

Total Respondents: 53 state agencies.

Frequency: Quarterly.

Total Responses: 212.

Average Time per Response: 1 minute.

Estimated Total Burden Hours: 24,104 hours.

Total Burden Cost (operating/maintaining): $0.

Comments submitted in response to this comment request will be summarized and/or included in the request for Office of Management and Budget approval of the information collection request; they will also become a matter of public record.

Dated: March 19, 2007.
Cheryl Atkinson,
Administrator, Office of Workforce Security.

[FR Doc. E7-5430 Filed 3-23-07; 8:45 am]

BILLING CODE 4510-FW-P